DEPARTMENT OF HEALTH AND HUMAN SERVICES

National Institutes of Health

National Institute of Mental Health; Amended Notice of Meeting

Notice is hereby given of a change in the meeting of the National Institute of Mental Health Special Emphasis Panel, August 1, 2000, 11 a.m. to August 1, 2000, 5 p.m., Chevy Chase Holiday Inn, 5520 Wisconsin Ave., Chevy Chase, MD 20815 which was published in the Federal Register on June 23, 2000, 65 FR 39153.

The meeting will now be held at the Neuroscience Center as a telephone conference call. The meeting is closed to the public.

Dated: July 27, 2000.
LaVerne Y. Stringfield,
Director, Office of Federal Advisory Committee Policy.

[FR Doc. 00-19632 Filed 8-2-00; 8:45 am]

BILLING CODE 4140-01-M